DEPARTMENT OF THE TREASURY

Office of the Comptroller of the Currency

Agency Information Collection Activities: Information Collection Renewal; Submission for OMB Review; Reg E—Prepaid Accounts

AGENCY: Office of the Comptroller of the Currency (OCC), Treasury.

ACTION: Notice and request for comment.

SUMMARY: The OCC, as part of its continuing effort to reduce paperwork and respondent burden, invites comment on a continuing information collection, as required by the Paperwork Reduction Act of 1995 (PRA). In accordance with the requirements of the PRA, the OCC may not conduct or sponsor, and the respondent is not required to respond to, an information collection unless it displays a currently valid Office of Management and Budget (OMB) control number. The OCC is soliciting comment concerning the renewal of its information collection titled, “Reg E—Prepaid Accounts.” The OCC also is giving notice that it has sent the collection to OMB for review.

DATES: Comments must be received by March 26, 2026.

ADDRESSES: Commenters are encouraged to submit comments by email, if possible. You may submit comments by any of the following methods:

• Email: prainfo@occ.treas.gov.

• Mail: Chief Counsel's Office, Attention: Comment Processing, Office of the Comptroller of the Currency, Attention: 1557-0346, 400 7th Street SW, Suite 3E-218, Washington, DC 20219.

• Hand Delivery/Courier: 400 7th Street SW, Suite 3E-218, Washington, DC 20219.

• Fax: (571) 293-4835.

Instructions: You must include “OCC” as the agency name and “1557-0346” in your comment. In general, the OCC will publish comments on www.reginfo.gov without change, including any business or personal information provided, such as name and address information, email addresses, or phone numbers. Comments received, including attachments and other supporting materials, are part of the public record and subject to public disclosure. Do not include any information in your comment or supporting materials that you consider confidential or inappropriate for public disclosure.

Written comments and recommendations for the proposed information collection should also be sent within 30 days of publication of this notice to www.reginfo.gov/public/do/PRAMain. You can find this information collection by selecting “Currently under 30-day Review—Open for Public Comments” or by using the search function.

You may review comments and other related materials that pertain to this information collection following the close of the 30-day comment period for this notice by the method set forth in the next bullet.

• Viewing Comments Electronically: Go to www.reginfo.gov. Hover over the “Information Collection Review” tab and click on “Information Collection Review” from the drop-down menu. From the “Currently under Review” drop-down menu, select “Department of Treasury” and then click “submit.” This information collection can be located by searching OMB control number “1557-0346” or “Reg E—Prepaid Accounts.” Upon finding the appropriate information collection, click on the related “ICR Reference Number.” On the next screen, select “View Supporting Statement and Other Documents” and then click on the link to any comment listed at the bottom of the screen.

• For assistance in navigating www.reginfo.gov, please contact the Regulatory Information Service Center at (202) 482-7340.

FOR FURTHER INFORMATION CONTACT: Shaquita Merritt, Clearance Officer, (202) 649-5490, Chief Counsel's Office, Office of the Comptroller of the Currency, 400 7th Street SW, Washington, DC 20219. If you are deaf, hard of hearing, or have a speech disability, please dial 7-1-1 to access telecommunications relay services.

SUPPLEMENTARY INFORMATION: Under the PRA (44 U.S.C. 3501 et seq.), Federal agencies must obtain approval from the OMB for each collection of information that they conduct or sponsor. “Collection of information” is defined in 44 U.S.C. 3502(3) and 5 CFR 1320.3(c) to include agency requests or requirements imposed on ten or more persons, that members of the public submit reports, keep records, or provide information to a third party. The OCC asks the OMB to extend its approval of the collection in this notice.

Title: Reg E—Prepaid Accounts.

OMB Control No.: 1557-0346.

Type of Review: Regular.

Affected Public: Businesses or other for-profit.

Description: The CFPB's Prepaid Accounts final rules require financial institutions to make available to consumers disclosures before a consumer acquires a prepaid account.

Under 12 CFR 1005.18(b), a financial institution is required to make available a short form and a long form disclosure before the consumer acquires a prepaid account, subject to certain exceptions. Section 1005.18(f)(3) requires certain disclosures with respect to prepaid account access devices. Disclosures must be made available or delivered in writing or electronically, depending on the circumstances.

Section 1005.18(b)(9) includes a requirement that a financial institution provide pre-acquisition disclosures in a foreign language if certain conditions are met. Financial institutions may elect to provide disclosures under section 1005.18(c)(1) as an alternative to providing periodic statements required by 12 CFR 1005.9(b), if applicable. Section 1005.18(c) contains other requirements for periodic statements and histories of account transactions. Section 1005.15(e) requires disclosures related to error resolution procedures for prepaid accounts.

Section 1005.19(b) generally requires issuers to submit to the CFPB, on a rolling basis, prepaid account agreements.

Estimated Burden

Estimated Frequency of Response: On occasion.

Estimated Number of Respondents: 998.

Estimated Total Annual Burden: 5,960 hours.

Comments: On December 16, 2025, the OCC published a 60-day notice for this information collection, (90 FR 58370). Two comments were received. Both commenters urged the OCC to offer support for several substantive amendments to the CFPB's Prepaid Account rules.¹ The OCC appreciates the commenters' suggestions and will take them into consideration. As the commenters indicated, for purposes of the Prepaid Account rules, Congress provided the CFPB with exclusive rulemaking authority.²

¹ These suggestions include: (1) removing the long form disclosure requirements; (2) removing the requirements for electronic disclosures provided pursuant to the rules to be responsive to different screen sizes and be machine readable; (3) removing the short form disclosure for additional fee types; (4) reducing the requirement for prepaid card issuers to maintain account transaction history from 24 months to 12 months; and (5) removing the requirement that card issuers provide written transaction histories to consumers at no charge.

² To the extent commenters requested that the OCC amend the Prepaid Account final rules, the OCC lacks the requisite rulemaking authority. See 15 U.S.C. 1693b(a).

Comments continue to be invited on:

(a) Whether the collection of information is necessary for the proper performance of the functions of the OCC, including whether the information has practical utility;

(b) The accuracy of the OCC's estimate of the burden of the collection of information;

(c) Ways to enhance the quality, utility, and clarity of the information to be collected;

(d) Ways to minimize the burden of the collection on respondents, including through the use of automated collection techniques or other forms of information technology; and

(e) Estimates of capital or start-up costs and costs of operation, maintenance, and purchase of services to provide information.

Sarah E. Turney,
Assistant Director, Office of the Comptroller of the Currency.

[FR Doc. 2026-03685 Filed 2-23-26; 8:45 am]

BILLING CODE 4810-33-P